DEPARTMENT OF AGRICULTURE

Commodity Credit Corporation

7 CFR Part 1470

RIN 0578-AA43

Conservation Stewardship Program

AGENCY: Commodity Credit Corporation, Natural Resources Conservation Service, United States Department of Agriculture.

ACTION: Interim final rule; extension of comment period.

SUMMARY: The Natural Resources Conservation Service (NRCS), on behalf of the Commodity Credit Corporation, published in the Federal Register of July 29, 2009, an interim final rule with request for comment establishing the program framework for implementation of the Conservation Stewardship Program (CSP). The July 29, 2009, interim final rule established a 60-day comment period that closes on September 28, 2009. This document extends the comment period an additional 30-day period to provide the public an opportunity to comment upon the implementation of the program through the first sign-up and ranking period that closes September 30, 2009.

DATES: The comment period for the CSP interim final rule published on July 29, 2009 (74 FR 37499) is hereby extended and comments must be received on or before October 28, 2009. Additionally, NRCS has extended the public comment period for the Environmental Analysis (EA) and Finding of No Significant Impact (FONSI) until October 28, 2009. A copy of the EA and FONSI may be obtained, and comments submitted, as provided for in the July 29, 2009, CSP interim final rule.

ADDRESSES: You may send comments (identified by Docket Number NRCS-IFR-09004) using any of the following methods:

• Government-wide rulemaking Web site: Go to http://www.regulations.gov and follow the instructions for sending comments electronically.

• Mail: Gregory K. Johnson, Director, Financial Assistance Programs Division, Department of Agriculture, Natural Resources Conservation Service, 1400 Independence Avenue, SW., Room 5237 South Building, Washington, DC 20250;

• E-mail: CSP2008@wdc.usda.gov.

• Fax: (202) 720-4265.

• Hand Delivery: USDA South Building, 1400 Independence Avenue, SW., Room 5237, Washington, DC 20250, between 9 a.m. and 4 p.m., Monday through Friday, except Federal Holidays. Please ask the guard at the entrance to the South Building to call (202) 720-4527 in order to be escorted into the building;

• The interim final rule and this extension may be accessed via the Internet. Users can access the NRCS homepage at: http://www.nrcs.usda.gov; select the Farm Bill link from the menu; select the Interim Final Rules link from beneath the Final and Interim Final Rules Index title. Persons with disabilities who require alternative means for communication (Braille, large print, audio tape, etc.) should contact the USDA Target Center at: (202) 720-2600 (voice and TDD).

FOR FURTHER INFORMATION CONTACT: Gregory Johnson, Director, Financial Assistance Programs Division, Department of Agriculture, Natural Resources Conservation Service, 1400 Independence Avenue, SW., Room 5237 South Building, Washington, DC 20250; Phone: (202) 720-1845; Fax: (202) 720-4265; or e-mail CSP2008@wdc.usda.gov.

Signed this 10th day of September 2009, in Washington, DC.
Dave White,
Vice President, Commodity Credit Corporation and Chief, Natural Resources Conservation Service.

[FR Doc. E9-22597 Filed 9-18-09; 8:45 am]

BILLING CODE 3410-16-P